DEPARTMENT OF JUSTICE

Federal Bureau of Investigation

[OMB Number 1110-0001]

Agency Information Collection Activities; Proposed eCollection; eComments Requested; Revision of a Currently Approved Collection; Return A—Monthly Return of Offenses Known to Police and Supplement to Return A—Monthly Return of Offenses Known to Police

AGENCY: Federal Bureau of Investigation, Department of Justice.

ACTION: 30-Day notice.

SUMMARY: The Criminal Justice Information Services (CJIS) Division, Federal Bureau of Investigation (FBI), Department of Justice (DOJ), will be submitting the following information collection request to the Office of Management and Budget (OMB) for review and approval in accordance with the Paperwork Reduction Act of 1995. This proposed information collection was previously published in the Federal Register on August 1, 2022, allowing for a 60-day comment period.

DATES: Comments are encouraged and will be accepted for an additional 30 days until November 28, 2022.

FOR FURTHER INFORMATION CONTACT: Written comments and/or suggestions regarding the items contained in this notice, especially the estimated burden and associated response time, should be directed to Mr. Edward Abraham, Unit Chief, Federal Bureau of Investigation, Criminal Justice Information Services Division, Module D-1, 1000 Custer Hollow Road, Clarksburg, West Virginia 26306, telephone 304-625-4830. Written comments and/or suggestions can also be sent to the Office of Management and Budget, Office of Information and Regulatory Affairs, Attention: Department of Justice Desk Officer, Washington, DC 20503 or send to OIRA_submissions@omb.eop.gov.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Evaluate the quality, utility, and clarity of the information to be collected; and

• Minimize the burden of the collection of information on those who are to respond, including through the use of appropriate automated, electronic, mechanical, or other technological collection techniques or other forms of information technology, e.g., permitting electronic submission of responses.

Overview of This Information Collection

1. Type of Information Collection: Extension of a currently approved collection.

2. Title of the Form/Collection: Return A—Monthly Return of Offenses Known to Police and Supplement to Return A—Monthly Return of Offenses Known to Police and Supplement of Return A—Monthly Return of Offenses Known to Police.

3. Agency form number, if any, and the applicable component of the Department sponsoring the collection: Form Number: 1-720 and 1-706. Sponsor: Criminal Justice Information Services Division, Federal Bureau of Investigation, Department of Justice.

4. Affected public will be asked or required to respond, and a brief abstract: Federal, state, county, city, and tribal law enforcement agencies. Abstract: This collection requests Part I offense and clearance data, and stolen and recovered monetary values of stolen property throughout the United States from federal, state, county, city, and tribal law enforcement agencies in order for the FBI's Uniform Crime Reporting (UCR) Program to serve as the national clearinghouse for the collection and dissemination of crime data and to publish these statistics in Crime in the United States.

5. An estimate of the total number of respondents and the amount of time estimated for an average respondent to respond/reply: There are approximately 18,600 law enforcement agencies within the universe of potential respondents. Due to the recent National Incident-Based Reporting System (NIBRS) transition, the UCR Program is no longer accepting new monthly submissions from Return A and Supplement to Return A data using this clearance. This clearance is being maintained to allow the submission of updates to past Summary Reporting System (SRS) submissions that were provided by agencies prior to the 2021 NIBRS transition. The submission of updates to past data is strictly voluntary and at the discretion of the contributing agency. Based on existing reporting patterns, the UCR Program has received 87,059 Return A and Supplement to Return A update submissions from 5,580 responding agencies in 2021 with an estimated response time of 10 minutes per response for Return A and 11 minutes for Supplement to Return A on this form. This number has changed from the 60-day notice due to a recalculation of the data available to the program. In order to provide a singular calculation of the estimated burden, the approximate minutes per response calculation is averaged between the Return A and Supplement to Return A forms. This results in a calculation of 10.5 minutes per response for the entire 1110-0001 clearance. The total burden for this clearance is determined by taking the 87,059 total responses received multiplied by the average minutes per response of 10.5 minutes per response. This provides a total minute of burden of 914,119.5 minutes. Converted to hours, the total number of burden hours for this collection is 15,235 hours. As the UCR Program moves further from the NIBRS transition, it is expected the total number of updates will steadily decline, mainly due to the updates being done through NIBRS on a more frequent basis. However, due to the need for these updates, the burden hour estimate is based on the most recent submission volumes to achieve the highest possible burden estimate.

6. An estimate of the total public burden (in hours) associated with the collection: There are approximately 15,235 hours, annual burden, associated with this information collection.

If additional information is required contact: Robert Houser, Department Clearance Officer, Policy and Planning Staff, Office of the Chief Information Officer, Justice Management Division, United States Department of Justice, Two Constitution Square, 145 N Street NE, 3.E-206, Washington, DC 20530.

Dated: October 25, 2022.
Robert Houser,
Assistant Director, Policy and Planning Staff, Office of the Chief Information Officer, U.S. Department of Justice.

[FR Doc. 2022-23487 Filed 10-27-22; 8:45 am]

BILLING CODE 4410-02-P